NATIONAL SCIENCE FOUNDATION

Agency Information Collection Activities: Comment Request; United States Antarctic Program (USAP) Climate Survey

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: United States Antarctic Program (USAP) Climate Survey.

OMB Control No.: 3145-0260.

Type of Request: Intent to seek approval to reinstate with revisions an information collection for three years. The primary purpose of this reinstatement is to identify and study the perceptions and perspectives of USAP participants located in Antarctica. The surveys address attitudes and concerns that will help NSF work with program participants and participating organizations to instill positive changes.

Proposed Project: In accordance with presidential memo 6646 the NSF manages the U.S. Antarctic Program including occupation of three year-round stations located on the Antarctic continent. NSF is committed to a workplace and community that fosters a climate free from sexual assault and harassment. NSF has recently completed a Sexual Assault/Harassment Prevention and Response (SAHR) program which requires reinstatement of this information collection.

Use of the Information: Disseminating a climate survey ensures accurate baseline data that will allow NSF to monitor SAHPR program progress, course correct efforts, and objectively demonstrate successes.

Burden on the Public: The Foundation estimates that an average of 1,800 respondents are expected to complete the request per year for a total of 900 burden hours annually.

Dated: February 9, 2023.
Suzanne H. Plimpton,
Reports Clearance Officer, National Science Foundation.

[FR Doc. 2023-03153 Filed 2-14-23; 8:45 am]

BILLING CODE 7555-01-P